DEPARTMENT OF ENERGY

Federal Energy Regulatory Commission

Combined Notice of Filings #1

July 13, 2020.

Take notice that the Commission received the following electric corporate filings:

Docket Numbers: EC20-79-000.

Applicants: Bellevue Solar, LLC, Yamhill Solar, LLC.

Description: Joint Application for Authorization Under Section 203 of the Federal Power Act, et al. of Bellevue Solar, LLC, et al.

Filed Date: 7/10/20.

Accession Number: 20200710-5162.

Comments Due: 5 p.m. ET 7/31/20.

Docket Numbers: EC20-80-000.

Applicants: Peetz Logan Interconnect, LLC, Peetz Table Wind Energy, LLC, Peetz Table Wind, LLC, Northern Colorado Wind Energy, LLC, Northern Colorado Wind Energy Center, LLC, Northern Colorado Wind Energy Center II, LLC, Logan Wind Energy LLC.

Description: Application for Authorization Under Section 203 of the Federal Power Act, et al. of Peetz Logan Interconnect, LLC, et al.

Filed Date: 7/10/20.

Accession Number: 20200710-5197.

Comments Due: 5 p.m. ET 7/31/20.

Take notice that the Commission received the following electric rate filings:

Docket Numbers: ER19-2901-003; ER10-1852-041; ER10-1951-023; ER10-1966-013; ER11-4462-044; ER12-2225-012; ER12-2226-012; ER14-2138-009; ER17-838-019; ER18-2091-005; ER19-2389-003; ER20-1219-001.

Applicants: Bronco Plains Wind, LLC, Florida Power & Light Company, Grazing Yak Solar, LLC, Limon Wind, LLC, Limon Wind II, LLC, Limon Wind III, LLC, Logan Wind Energy LLC, NextEra Energy Marketing, LLC, NextEra Energy Services Massachusetts, LLC, NEPM II, LLC, Peetz Table Wind, LLC, Titan Solar, LLC.

Description: Notification of Change in Status of the NextEra Entities.

Filed Date: 7/10/20.

Accession Number: 20200710-5204.

Comments Due: 5 p.m. ET 7/31/20.

Docket Numbers: ER20-1590-001.

Applicants: PJM Interconnection, L.L.C.

Description: Compliance filing: Compliance Filing Concerning Load Management Testing Requirements to be effective 6/17/2020.

Filed Date: 7/13/20.

Accession Number: 20200713-5053.

Comments Due: 5 p.m. ET 8/3/20.

Docket Numbers: ER20-2382-000.

Applicants: Midcontinent Independent System Operator, Inc.

Description: Compliance filing: 2020-07-13_SA 3516 Ameren-Broadlands Wind Farm FSA (J468) to be effective 10/1/2020.

Filed Date: 7/13/20.

Accession Number: 20200713-5072.

Comments Due: 5 p.m. ET 8/3/20.

Docket Numbers: ER20-2383-000.

Applicants: PJM Interconnection, L.L.C.

Description: Section 205(d) Rate Filing: Revised ISA, Service Agreement No. 3753; Queue No. AE1-050 to be effective 6/11/2020.

Filed Date: 7/13/20.

Accession Number: 20200713-5055.

Comments Due: 5 p.m. ET 8/3/20.

Docket Numbers: ER20-2384-000.

Applicants: PJM Interconnection, L.L.C.

Description: Section 205(d) Rate Filing: Amendment to WMPA, SA No. 4962; Queue No. AB1-001 (consent) to be effective 3/9/2018.

Filed Date: 7/13/20.

Accession Number: 20200713-5054.

Comments Due: 5 p.m. ET 8/3/20.

Docket Numbers: ER20-2385-000.

Applicants: Midcontinent Independent System Operator, Inc.

Description: Compliance filing: 2020-07-13 SA 3025 Ameren-Broadlands Wind Farm 1st Rev FCA (J468) to be effective 7/9/2020.

Filed Date: 7/13/20.

Accession Number: 20200713-5056.

Comments Due: 5 p.m. ET 8/3/20.

Docket Numbers: ER20-2386-000.

Applicants: Midcontinent Independent System Operator, Inc.

Description: Compliance filing: 2020-07-13_SA 3024 Broadlands-Ameren 2nd Rev GIA (J468) to be effective 7/9/2020.

Filed Date: 7/13/20.

Accession Number: 20200713-5070.

Comments Due: 5 p.m. ET 8/3/20.

Docket Numbers: ER20-2387-000.

Applicants: PJM Interconnection, L.L.C.

Description: Section 205(d) Rate Filing: Original WMPA, Service Agreement No. 5695; Queue No. AF1-133 to be effective 6/11/2020.

Filed Date: 7/13/20.

Accession Number: 20200713-5087.

Comments Due: 5 p.m. ET 8/3/20.

Docket Numbers: ER20-2388-000.

Applicants: PJM Interconnection, L.L.C.

Description: Section 205(d) Rate Filing: Second Revised ISA No. 3754; Queue No. 3754 to be effective 6/11/2020.

Filed Date: 7/13/20.

Accession Number: 20200713-5088.

Comments Due: 5 p.m. ET 8/3/20.

Docket Numbers: ER20-2389-000.

Applicants: Arthur Kill Power LLC.

Description: Section 205(d) Rate Filing: Market-Based Rate Tariff Revisions to be effective 7/14/2020.

Filed Date: 7/13/20.

Accession Number: 20200713-5089.

Comments Due: 5 p.m. ET 8/3/20.

Docket Numbers: ER20-2390-000.

Applicants: Astoria Gas Turbine Power LLC.

Description: Section 205(d) Rate Filing: Market-Based Rate Tariff Revisions to be effective 7/14/2020.

Filed Date: 7/13/20.

Accession Number: 20200713-5090.

Comments Due: 5 p.m. ET 8/3/20.

Docket Numbers: ER20-2391-000.

Applicants: Connecticut Jet Power LLC.

Description: Section 205(d) Rate Filing: Market-Based Rate Tariff Revisions to be effective 7/14/2020.

Filed Date: 7/13/20.

Accession Number: 20200713-5091.

Comments Due: 5 p.m. ET 8/3/20.

Docket Numbers: ER20-2392-000.

Applicants: Devon Power LLC.

Description: Section 205(d) Rate Filing: Market-Based Rate Tariff Revisions to be effective 7/14/2020.

Filed Date: 7/13/20.

Accession Number: 20200713-5092.

Comments Due: 5 p.m. ET 8/3/20.

Docket Numbers: ER20-2393-000.

Applicants: Indian River Power LLC.

Description: Section 205(d) Rate Filing: Market-Based Rate Tariff Revisions to be effective 7/14/2020.

Filed Date: 7/13/20.

Accession Number: 20200713-5093.

Comments Due: 5 p.m. ET 8/3/20.

Docket Numbers: ER20-2394-000.

Applicants: Middletown Power LLC.

Description: Section 205(d) Rate Filing: Market-Based Rate Tariff Revisions to be effective 7/14/2020.

Filed Date: 7/13/20.

Accession Number: 20200713-5097.

Comments Due: 5 p.m. ET 8/3/20.

Docket Numbers: ER20-2395-000.

Applicants: Montville Power LLC.

Description: Section 205(d) Rate Filing: Market-Based Rate Tariff Revisions to be effective 7/14/2020.

Filed Date: 7/13/20.

Accession Number: 20200713-5102.

Comments Due: 5 p.m. ET 8/3/20.

Docket Numbers: ER20-2397-000.

Applicants: Tri-State Generation and Transmission Association, Inc.

Description: Section 205(d) Rate Filing: Amendment to Tri-State Rate Schedule FERC No. 250 to be effective 7/14/2020.

Filed Date: 7/13/20.

Accession Number: 20200713-5195.

Comments Due: 5 p.m. ET 8/3/20.

Docket Numbers: ER20-2398-000.

Applicants: Duke Energy Carolinas, LLC.

Description: Section 205(d) Rate Filing: Revisions to Cancelled Rate Schedule No. 333 to be effective 1/1/2018.

Filed Date: 7/13/20.

Accession Number: 20200713-5198.

Comments Due: 5 p.m. ET 8/3/20.

Docket Numbers: ER20-2399-000.

Applicants: PJM Interconnection, L.L.C.

Description: Section 205(d) Rate Filing: Original WMPA, Service Agreement No. 5696; Queue No. AF1-140 to be effective 6/11/2020.

Filed Date: 7/13/20.

Accession Number: 20200713-5207.

Comments Due: 5 p.m. ET 8/3/20.

Docket Numbers: ER20-2400-000.

Applicants: Sky River LLC.

Description: Tariff Cancellation: Sky River LLC Notice of Cancellation of Open Access Transmission Tariff to be effective 9/12/2020.

Filed Date: 7/13/20.

Accession Number: 20200713-5208.

Comments Due: 5 p.m. ET 8/3/20.

Docket Numbers: ER20-2401-000.

Applicants: Alabama Power Company.

Description: Section 205(d) Rate Filing: Tri-State Solar Project (Phase 2) LGIA Filing to be effective 6/30/2020.

Filed Date: 7/13/20.

Accession Number: 20200713-5211.

Comments Due: 5 p.m. ET 8/3/20.

Docket Numbers: ER20-2402-000.

Applicants: PJM Interconnection, L.L.C.

Description: Section 205(d) Rate Filing: Original ISA, SA No. 5682; Queue No. AF1-190/AF1-191 to be effective 6/11/2020.

Filed Date: 7/13/20.

Accession Number: 20200713-5212.

Comments Due: 5 p.m. ET 8/3/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2020.
Nathaniel J. Davis, Sr.,
Deputy Secretary.

[FR Doc. 2020-15611 Filed 7-17-20; 8:45 am]

BILLING CODE 6717-01-P